DEPARTMENT OF THE INTERIOR

National Park Service

National Park of American Samoa; Federal Advisory Commission; Notice of Meeting

Notice is given in accordance with the Federal Advisory Committee Act that a meeting of the National Park of American Samoa Federal Advisory Commission will be held from 8 a.m. to 1 p.m., Monday, January 22, 2001, at the Fitiuta village malae, Fitiuta, Ta'u, American Samoa. An alternative site, in case of restricted travel to Ta'u, will be Pago Plaza, Rm. 212, Pago Pago, Tutuila, American Samoa.

The agenda for the meeting will include:

Welcome and introductions Superintendents report and discussion Discussion of park related tourism Other Board issues Public comments

The meeting is open to the public and opportunity will be provided for public comments prior to closing the meeting. The meeting will be recorded for documentation and transcribed for dissemination. Minutes of the meeting will be available to the public after they have been approved by the full Advisory Commission. For copies of the minutes, contact the National Park of American Samoa Superintendent at 011 (684) 633-7082.

Dated: December 10, 2000.
Charles Cranfield,
Superintendent, National Park of American Samoa.

[FR Doc. 00-32829 Filed 12-22-00; 8:45 am]

BILLING CODE 4310-70-P